DEPARTMENT OF THE INTERIOR

Bureau of Land Management

[L51010000.FX0000.LVRWA11A2990.LLAZP02000.XXX; AZA35079]

Notice of Availability of the Draft Environmental Impact Statement for the Proposed Sun Valley to Morgan 500/230kV Transmission Line Project (Formerly Called TS-5 to TS-9), Arizona, and the Draft Bradshaw-Harquahala Resource Management Plan Amendment and Notice of Public Hearings

AGENCY: Bureau of Land Management, Interior.

ACTION: Notice.

SUMMARY: In accordance with the National Environmental Policy Act of 1969, as amended (NEPA), and the Federal Land Policy and Management Act of 1976, as amended (FLPMA), the Bureau of Land Management (BLM) has prepared a Draft Environmental Impact Statement (EIS) for the Proposed Sun Valley to Morgan 500/230-kilovolt (kV) Transmission Line Project (Project) and Draft Bradshaw-Harquahala Resource Management Plan (RMP) amendment for the BLM Hassayampa Field Office, and by this notice is announcing the opening of the comment period.

DATES: To ensure that comments will be considered, the BLM must receive written comments on the Draft EIS and Draft RMP amendment within 90 days following the date the Environmental Protection Agency publishes its Notice of Availability in the Federal Register. The BLM will hold public hearings on the Draft EIS and Draft RMP amendment on December 11, 2012, in Peoria, Arizona; December 12 in Wittmann, Arizona; and December 13 in Phoenix, Arizona. All of the public hearings will begin with an open house at 5:30 p.m., followed by a presentation at 6 p.m. Further details about these hearings and any other public involvement activities will be published at least 15 days in advance through public notices, media releases, and/or mailings.

ADDRESSES: You may submit comments by any of the following methods:

• Web site: http://www.blm.gov/az/st/en.html.

• Email: SunValley-Morgan@blm.gov.

• Fax: 623-580-5580.

• Mail: BLM Phoenix District Office, Hassayampa Field Office, Attention: Joe Incardine/Sun Valley-Morgan Project, 21605 North 7th Avenue, Phoenix, Arizona 85207-2929.

Copies of the Draft EIS and Draft RMP amendment are available in the BLM Hassayampa Field Office at the above address.

FOR FURTHER INFORMATION CONTACT: Joe Incardine, BLM National Project Manager, telephone 801-539-4118; address BLM Phoenix District Office, Hassayampa Field Office, 21605 North 7th Avenue, Phoenix, Arizona 85027-2929; email jincardi@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Arizona Public Service Company (APS) submitted a right-of-way (ROW) application to construct, operate, and maintain a 500/230kV overhead transmission line from the Sun Valley Substation to the Morgan Substation in Maricopa County. The Project would be located on a combination of BLM-managed lands, Arizona State Trust lands, and private lands in northern Maricopa County, northwest of Phoenix, Arizona. The Project is an overhead transmission line, approximately 38 miles long, on monopole structures. The BLM-managed lands within the Project area are managed under the existing Bradshaw-Harquahala Resource Management Plan (RMP).

Environmental and social concerns and issues were identified through internal and public scoping. The issues addressed in the EIS that shaped the Project's scope and alternatives include:

• Need and reliability;

• RMP amendment;

• Project design features, mitigation measures, and alternatives;

• Air and climate;

• Biological resources;

• Cultural resources;

• Health and safety;

• Recreation;

• Socioeconomic;

• Scenic/Visual; and

• Transportation and traffic.

In addition to the Proposed Action and No Action Alternative, three Action Alternative routes and one sub-alternative route (as proposed by the Arizona State Land Department) were analyzed in detail in the Draft EIS. As proposed, the Project would require an RMP amendment because the current RMP requires high-voltage transmission lines crossing BLM-managed lands to be within designated utility corridors, and a utility corridor for the proposed ROW on public lands was not established in the current RMP, the proposed action is within a designated transportation corridor. In addition, the Visual Resource Management (VRM) class designation would need to be amended from Class III to Class IV for those BLM-managed lands where views would be dominated by the transmission line, and thus would not meet the objectives of the current VRM designation. The VRM class would also be changed for those BLM-managed public lands north and south of State Route (SR) 74 surrounding the proposed transmission line ROW (i.e., the existing transportation corridor north of SR 74 and the key-shaped piece south of SR 74) in order to avoid creating narrow linear strips with different VRM classes.

An interdisciplinary approach was used to develop the Draft EIS in order to consider the variety of resource issues and concerns identified. An amendment to the Bradshaw Harquahala RMP would be based upon the following planning criteria:

• The amendment will be completed in compliance with FLPMA, NEPA, and all other relevant Federal laws, Executive Orders, and management policies of the BLM;

• Where existing planning decisions are still valid, those decisions will remain unchanged and be incorporated into the new amendment; and

• The amendment will recognize valid existing rights.

The BLM has identified a modified Proposed Action route crossing BLM-managed lands as the Agency Preferred Alternative route for the proposed transmission line, including best management practices and mitigative measures. Mitigative measures could consist of minor route deviations for micro-siting of structures or segments of the line at the time of route engineering to reduce impacts to visual and other sensitive resources. However, mitigative measures would still allow for the transmission line route to remain within the Arizona Corporation Commission-certificated route.

Under the Agency Preferred Alternative, the BLM would amend the RMP to:

• Designate a 200-foot-wide single-use utility corridor on public lands managed by the BLM north of SR 74;

• Designate a multi-use utility corridor on 1,021 acres of public lands managed by the BLM south of SR 74 to address potential future BLM management considerations; and

• Change the existing VRM class designations of 2,362 acres north of SR 74 and 1,013 acres south of SR 74 from Class III to Class IV to allow for the newly established utility corridors.

Once the RMP were amended, the BLM would approve a 200-foot-wide ROW within the newly designated utility corridor on public lands managed by the BLM north of SR 74 and within the existing designated utility corridor northeast of the Sun Valley Substation.

The BLM will utilize and coordinate the NEPA comment period to satisfy the public involvement process for Section 106 of the National Historic Preservation Act (16 U.S.C. 470) as provided for in 36 CFR 800.2(d)(3). Native American tribal consultations will be conducted in accordance with policy, and tribal concerns, including impacts on Indian trust assets, will be given due consideration. Federal, State, and local agencies, along with other stakeholders that may be interested or affected by the BLM's decisions on this project, are invited to participate in the public comment process. The BLM has determined that public hearings to solicit comments on the Draft EIS are necessary. Accordingly, the BLM invites all interested persons to participate in one of the following public hearings:

Public Hearing Locations

Centennial High School, 14388 North 79th Avenue, Peoria, Arizona 85381—December 11, 2012

Nadaburg Elementary School, 21419 West Dove Valley Road, Wittmann, Arizona 85361—December 12, 2012

BLM National Training Center, 9828 North 31st Avenue, Phoenix, Arizona 85051—December 13, 2012

All public hearings begin with an open house at 5:30 p.m., followed by a presentation at 6 p.m.

Interested parties are invited to present oral statements at the hearings. For information on facilities or services for persons with disabilities or to request special assistance at the hearing, contact Ellen Carr at 480-629-4705 or email ellen.carr@galileoaz.com or in writing at 4700 South McClintock Drive, Tempe, Arizona 85282, at least 5 business days before the date of the hearing.

The hearings will be conducted in accordance with 455 DM 1 and the BLM NEPA Handbook by a representative designated by the BLM.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Raymond Suazo,
State Director.

[FR Doc. 2012-27929 Filed 11-15-12; 8:45 am]

BILLING CODE 4310-32-P